DEPARTMENT OF COMMERCE

Bureau of Industry and Security Information Systems Technical Advisory Committee; Notice of Partially Closed Meeting

The Information Systems Technical Advisory Committee (ISTAC) will meet on November 19 and 20, 2003, 9 a.m., in the Herbert C. Hoover Building, Room 3884, 14th Street between Pennsylvania Avenue and Constitution Avenue, NW., Washington, DC. The Committee advises the Office of the Assistant Secretary for Export Administration on technical questions that affect the level of export controls applicable to information systems equipment and technology.

November 19

Public Session

1. Opening remarks and introductions.

2. Comments or presentations by the public.

3. Field Programmable Gate Arrays overview.

4. Sample industry export compliance training.

November 19 and 20

Closed Session

5. Discussion of matters properly classified under Executive Order 12958, dealing with U.S. export control programs and strategic criteria related thereto.

A limited number of seats will be available for the public session. Reservations are not accepted. To the extent time permits, members of the public may present oral statements to the Committee. The public may submit written statements at any time before or after the meeting. However, to facilitate distribution of public presentation materials to Committee members, the Committee suggests that public presentation materials or comments be forwarded before the meeting to the address listed below:

Ms. Lee Ann Carpenter, Advisory Committees MS: 1099D, U.S. Department of Commerce, 14th St. & Constitution Ave., NW., Washington, DC 20230.

The Assistant Secretary for Administration, with the concurrence of the delegate of the General Counsel, formally determined on October 28, 2003, pursuant to section 10(d) of the Federal Advisory Committee Act, as amended (5 U.S.C. app. 2 sec. 10(d)), that the portion of this meeting dealing with pre-decisional changes to the Commerce Control List and U.S. export control policies shall be exempt form the provisions relating to public meetings found in 5 U.S.C. app. 2 sec. 10(a)(1) and 10(a)(3). For more information, contact Lee Ann Carpenter on 202-482-2583.

Dated: October 29, 2003.
Lee Ann Carpenter,
Committee Liaison Officer.

[FR Doc. 03-27564 Filed 10-31-03; 8:45 am]

BILLING CODE 3510-JT-M